DEPARTMENT OF THE INTERIOR

Bureau of Indian Affairs

[134A2100DD.AAK4004601.A0N5A2020]

Renewal of Agency Information Collection for Grazing Permits

AGENCY: Bureau of Indian Affairs, Interior.

ACTION: Notice of request for comments.

SUMMARY: In compliance with the Paperwork Reduction Act of 1995, the Bureau of Indian Affairs is seeking comments on the renewal of Office of Management and Budget (OMB) approval for the collection of information for Grazing Permits authorized by OMB Control Number 1076-0157. This information collection expires July 31, 2013.

DATES: Submit comments on or before June 24, 2013.

ADDRESSES: You may submit comments on the information collection to David Edington, Office of Trust Services, 1849 C Street NW., Mail Stop 4637 MIB, Washington, DC 20240; facsimile: (202) 219-0006; email: David.Edington@bia.gov.

FOR FURTHER INFORMATION CONTACT: David Edington, (202) 513-0886.

SUPPLEMENTARY INFORMATION:

I. Abstract

The Bureau of Indian Affairs (BIA) is seeking renewal of the approval for the information collection conducted under 25 CFR 166, Grazing Permits, related to grazing on tribal land, individually-owned Indian land, or government land. This information collection allows BIA to obtain the information necessary to determine whether an applicant is eligible to acquire, modify, or assign a grazing permit on trust or restricted lands and to allow a successful applicant to meet bonding requirements. Some of this information is collected on forms.

II. Request for Comments

The Bureau of Indian Affairs requests your comments on this collection concerning: (a) The necessity of this information collection for the proper performance of the functions of the agency, including whether the information will have practical utility; (b) The accuracy of the agency's estimate of the burden (hours and cost) of the collection of information, including the validity of the methodology and assumptions used; (c) Ways to enhance the quality, utility, and clarity of the information collected; and (d) Ways to minimize the burden of collecting information from respondents.

Please note that an agency may not conduct or sponsor, and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0157.

Title: Grazing Permits, 25 CFR 166.

Brief Description of Collection: Submission of this information allows individuals or organizations to acquire or modify a grazing permit on tribal land, individually-owned Indian land, or government land and to meet bonding requirements. Some of this information is collected on the following forms: Form 5-5423—Performance Bond, Form 5-5514—Bid for Grazing Privileges, Form 5-5516—Grazing Permit for Organized Tribes, Form 5-5517—Free Grazing Permit, Form 5-5519—Cash Penal Bond, Form 5-5520—Power of Attorney, Form 5-5521—Certificate and Application for On-and-Off Grazing Permit, Form 5522—Modification of Grazing Permit, Form 5-5523—Assignment of Grazing Permit, Form 5-5524—Application for Allocation of Grazing Privileges, Form 5-5528—Livestock Crossing Permit, and Form 5-5529—Removable Range Improvement Records. Response is required to obtain or retain a benefit.

The following forms: Form 5-5515—Grazing Permit, Form 5-5525—Authority to Grant Grazing Privileges on Allotted Lands, and Form 5-5527—Stock Counting Record, are still in use but not considered to be an information collection as the program has determined the information for these forms to be available from other forms, found in existing records, or generated by BIA staff.

Type of Review: Revision of currently approved collection.

Respondents: Tribes, tribal organizations, individual Indians, and non-Indian individuals and entities.

Number of Respondents: 1,490 individual Indian allottee landowners, tribes, tribal organizations, and other individuals and entities.

Number of Responses: 1,490.

Estimated Time per Response: 20 minutes.

Estimated Total Annual Hour Burden: 497 hours.

Dated: April 18, 2013.
John Ashley,
Acting Assistant Director for Information Resources.

[FR Doc. 2013-09731 Filed 4-23-13; 8:45 am]

BILLING CODE 4310-4J-P